DEPARTMENT OF DEFENSE

Office of the Secretary

[Transmittal No. 23-0I]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0I.

Dated: October 2, 2024.
Aaron T. Siegel,
Alternate OSD Federal Register Liaison Officer, Department of Defense.

Transmittal No. 23-01

REPORT OF ENHANCEMENT OR UPGRADE OF SENSITIVITY OF TECHNOLOGY OR CAPABILITY (SEC. 36(B)(5)(C), AECA)

(i) Purchaser: Government of Australia

(ii) Sec. 36(b)(1), AECA Transmittal No.: 11-05

Date: February 1, 2011

Military Department: Navy

(iii) Description: On February 1, 2011, Congress was notified by congressional certification transmittal number 11-05 of the possible sale under Section 36(b)(1) of the Arms Export Control Act of the Government of Australia's request for ten year Through-Life-Support (TLS) for Australia's fleet of twenty-four (24) MH-60R helicopters. The sustainment effort included spare and repair parts provisioning, support and test equipment, publications and technical documentation, U.S. Government and contractor engineering, technical and logistics support services, and other related elements of logistics support. The estimated cost was $1.6 billion, with no Major Defense Equipment (MDE).

On July 10, 2018, Congress was notified by congressional certification transmittal number 18-0A of the extension of the sustainment support will include additional spare parts through June 2028 as requested by Australia. There was no increase in MDE cost. The case value increased from $1.6 billion to $2.8 billion.

On June 15, 2020, Congress was notified by congressional certification transmittal number 0H-20 of the addition of the following MDE: three (3) airborne Embedded GPS/INS (EGI) with GPS security devices and four (4) T700-GE-401C turbo engines. This equipment resulted in a net increase in MDE cost of $5 million and a corresponding decrease in the non-MDE value by $5 million. The total estimated cost remained $2.8 billion.

This transmittal notifies Australia's request for continued sustainment and support services for its MH-60R helicopters. No additional MDE is being added and there is no increase in MDE cost. The total estimated cost will increase to $4.3 billion.

(iv) Significance: This proposed sale will improve Australia's capability to perform anti-surface and antisubmarine warfare missions as well as secondary missions, including vertical replenishment, search and rescue, and communications relay. Australia will use the enhanced capability as a deterrent to regional threats and to strengthen its homeland defense.

(v) Justification: This proposed sale supports the foreign policy and national security objectives of the United States by improving the security of a major non-NATO ally that is a key partner of the United States in ensuring peace and stability around the world.

(vi) Sensitivity of Technology: The Sensitivity of Technology Statement contained in the original notification applies to items reported here.

The highest level of classification of defense articles, components, and services included in this potential sale is SECRET.

(vii) Date Report Delivered to Congress: May 19, 2023

[FR Doc. 2024-23111 Filed 10-4-24; 8:45 am]

BILLING CODE 6001-FR-P